DEPARTMENT OF ENERGY

Federal Energy Regulatory Commission

[Docket No. CP09-464-000]

Colorado Interstate Gas Company; Notice of Availability of the Environmental Assessment for the Proposed Raton 2010 Expansion Project

January 20, 2010.

The staff of the Federal Energy Regulatory Commission (FERC or Commission) has prepared an environmental assessment (EA) for the Raton 2010 Expansion Project proposed by Colorado Interstate Gas Company (CIG) in the above-referenced docket. CIG requests authorization to construct approximately 118 miles of 16-inch diameter pipeline in Las Animas, Huerfano, Pueblo, and El Paso Counties, Colorado in two segments (the Spanish Peaks and Aguilar Laterals). The Project would increase firm capacity into CIG's system by 130,000 dekatherms per day (Dth/d).

The EA assesses the potential environmental effects of the construction and operation of the Raton 2010 Expansion Project in accordance with the requirements of the National Environmental Policy Act of 1969 (NEPA). The FERC staff concludes that approval of the proposed project, with appropriate mitigating measures, would not constitute a major federal action significantly affecting the quality of the human environment.

The proposed Raton 2010 Expansion Project includes the following proposed facilities:

• Spanish Peaks Lateral (Line 247A)—a 28 mile 16-inch diameter pipeline from the existing Line 222A in Las Animas County, Colorado to the intersection of existing Line 27A near the town of Aguilar in Las Animas County, Colorado;

• Aguilar Lateral (Line 248A)—a 91 mile 16-inch diameter pipeline from the existing Line 27A near the town of Aguilar, Colorado northerly through Huerfano and Pueblo Counties, Colorado to the intersection of existing Line 212A in El Paso County, Colorado;

• One new Kennedy Meter Station in Las Animas County, Colorado;

• Modify the existing Wet Canyon Meter Station in Las Animas County, Colorado;

• Modify the existing Picketwire Meter Station in Las Animas County, Colorado; and

• Modify the existing Bowie Meter Station in Weld County, Colorado.

The EA has been placed in the public files of the FERC and is available for public viewing on the FERC's Web site at http://www.ferc.gov using the eLibrary link. A limited number of copies of the EA are available for distribution and public inspection at: Federal Energy Regulatory Commission, Public Reference Room, 888 First Street, NE., Room 2A, Washington, DC 20426, (202) 502-8371.

Copies of the EA have been mailed to Federal, State and local agencies, interest groups, and individuals, tribes, newspapers and libraries in the project area, and parties to this proceeding.

Any person wishing to comment on the EA may do so. Your comments should focus on the potential environmental effects, reasonable alternatives, and measures to avoid or lessen environmental impacts. The more specific your comments, the more useful they will be. To ensure that your comments are properly recorded and considered prior to a Commission decision on the proposal, it is important that we receive your comments in Washington, DC on or before February 19, 2010.

For your convenience, there are three methods you can use to submit your comments to the Commission. In all instances please reference the project docket number (CP09-464-000) with your submission. The Commission encourages electronic filing of comments and has dedicated eFiling expert staff available to assist you at 202-502-8258 or efiling@ferc.gov.

(1) You may file your comments electronically by using the Quick Comment feature, which is located on the Commission's Web site at http://www.ferc.gov under the link to Documents and Filings. A Quick Comment is an easy method for interested persons to submit text-only comments on a project;

(2) You may file your comments electronically by using the eFiling feature, which is located on the Commission's Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing”; or

(3) You may file your comments via mail by sending an original and two copies of your letter to: Kimberly D. Bose, Secretary, Federal Energy Regulatory Commission, 888 First Street, NE., Room 1A, Washington, DC 20426.

If you choose the option to mail your comments, label one copy of the comments for the attention of Gas Branch 2, PJ-11.2. Please mail your comments promptly, so that they will be received in Washington, DC on or before February 19, 2010.

Although your comments will be considered by the Commission, simply filing comments will not serve to make the commentor a party to the proceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at 1-866-208-FERC or on the FERC Internet Web site (http://www.ferc.gov) using the eLibrary link. Click on the eLibrary link, click on “General Search” and enter the docket number excluding the last three digits in the Docket Number field (i.e., CP09-464). Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries and direct links to the documents. Go to http://www.ferc.gov/esubscribenow.htm.

Kimberly D. Bose,
Secretary.

[FR Doc. 2010-1535 Filed 1-26-10; 8:45 am]

BILLING CODE 6717-01-P